Title 3—

The President

Executive Order 13862 of March 6, 2019

Revocation of Reporting Requirement

By the authority vested in me as President by the Constitution and the laws of the United States of America, it is hereby ordered as follows:

Section 1. Findings. (a) Section 3 of Executive Order 13732 of July 1, 2016 (United States Policy on Pre- and Post-Strike Measures To Address Civilian Casualties in U.S. Operations Involving the Use of Force), requires the Director of National Intelligence, or such other official as the President may designate, to release, by May 1 each year, an unclassified summary of the number of strikes undertaken by the United States Government against terrorist targets outside areas of active hostilities, as well as assessments of combatant and non-combatant deaths resulting from those strikes, among other information.

(b) Section 1057 of the National Defense Authorization Act for Fiscal Year 2018 (Public Law 115-91) similarly requires the Secretary of Defense to submit to the congressional defense committees, by May 1 each year, a report on civilian casualties caused as a result of United States military operations during the preceding year (civilian casualty report). Subsection 1057(d) requires that the civilian casualty report be submitted in unclassified form, but recognizes that the report may include a classified annex.

(c) Section 1062 of the National Defense Authorization Act for Fiscal Year 2019 (Public Law 115-232) expanded the scope of the civilian casualty report and specified that the report shall be made available to the public unless the Secretary of Defense certifies that the publication of the report would pose a threat to the national security interests of the United States.

Sec. 2. Revocation of Reporting Requirement. Section 3 of Executive Order 13732 is hereby revoked.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 6, 2019.

[FR Doc. 2019-04595

Filed 3-8-19; 11:15 am]

Billing code 3295-F9-P